DEPARTMENT OF TRANSPORTATION

Surface Transportation Board

[Docket No. FD 35398]

BDB Company—Acquisition Exemption—Consolidated Rail Corporation

BDB Company (BDB), a noncarrier, has filed a verified notice of exemption under 49 CFR 1150.31 to acquire from Consolidated Rail Corporation a parcel of land, formerly known as the Swanson Rail Yard, in Philadelphia, Pa.¹ The property is approximately 159.54 feet wide and 2,063 feet long and is located about 25 feet east of Interstate Highway 95 between Pattison Avenue and the Delaware River Port Authority right-of-way (Walt Whitman Bridge approach/Interstate Highway 76).² The purpose of the acquisition is to develop a common carrier truck-rail transfer facility ³ and associated rail common carrier service.

¹ BDB seeks Board approval now for the acquisition even though the transfer took place in April 2005.

² According to BDB, there are no mileposts on this property.

³ BDB states that, to the extent the facility will handle waste products, it has already been fully licensed by the State of Pennsylvania.

This transaction is related to two other transactions for which notices of exemption have been simultaneously filed: Docket No. FD 35399, Swanson Rail Transfer, L.P.—Lease and Operation Exemption—BDB Company, in which Swanson Rail Transfer, L.P. (SRT) seeks Board approval to acquire the same property by lease from affiliate BDB and to operate the property; and Docket No. FD 35400, B. Robert DeMento, Jr., and Baggio Herman DeMento—Continuance in Control Exemption—BDB Company and Swanson Rail Transfer, L.P., in which the partners/owners of BDB and SRT, B. Robert DeMento, Jr., and Baggio Herman DeMento, seek Board approval to continue in control of BDB and SRT upon Board approval of this transaction and the transaction in FD 35399.

The transaction may not be consummated until September 1, 2010 (30 days after the notice of exemption was filed).

BDB certifies that its projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than August 25, 2010 (at least 7 days before the exemption becomes effective).

An original and 10 copies of all pleadings, referring to Docket No. FD 35398, must be filed with the Surface Transportation Board, 395 E Street, SW., Washington, DC 20423-0001. In addition, a copy of each pleading must be served on John F. McHugh, 6 Water Street, New York, N.Y. 10004.

Board decisions and notices are available on our Web site at http://www.stb.dot.gov.

Decided: August 12, 2010.
By the Board, Rachel D. Campbell, Director, Office of Proceedings.
Kulunie L. Cannon,
Clearance Clerk.

[FR Doc. 2010-20438 Filed 8-17-10; 8:45 am]

BILLING CODE 4915-01-P